OFFICE OF MANAGEMENT AND BUDGET

Office of Federal Procurement Policy

Policy Letter 11-01, Performance of Inherently Governmental and Critical Functions

AGENCY: Office of Federal Procurement Policy, Office of Management and Budget.

ACTION: Notice; correction to final policy letter.

SUMMARY: The Office of Federal Procurement Policy (OFPP) in the Office of Management and Budget (OMB) is making a correction to the Final Policy Letter “Performance of Inherently Governmental and Critical Functions” (76 FR 56227-56242, September 12, 2011) to clarify that the Policy Letter applies to both Civilian and Defense Executive Branch Departments and Agencies. The original publication of the policy letter was inadvertently addressed only to the Heads of The Civilian Executive Departments and Agencies. Also, OFPP has corrected the citation for additional guidance about conduct of Federally Funded Research and Development Centers (FFRDCs), because the original notice referenced an incorrect Part of the Federal Acquisition Regulation. The corrections below should be used in place of text previously published in the September 12, 2011 notice. All other information from the published Final Policy remains unchanged. The full text of the original notice is available at http://www.gpo.gov/fdsys/pkg/FR-2011-09-12/pdf/2011-23165.pdf.

FOR FURTHER INFORMATION CONTACT: Mathew Blum, OFPP, (202) 395-4953 or mblum@omb.eop.gov, or Jennifer Swartz, OFPP, (202) 395-6811 or jswartz@omb.eop.gov.

Corrections

In the Federal Register on September 12, 2011, correct the addressee section for the policy letter on page 56236 of the Federal Register to read as follows:

POLICY LETTER 11-01 TO THE HEADS OF EXECUTIVE DEPARTMENTS AND AGENCIES

SUBJECT: Performance of Inherently Governmental and Critical Functions.

In the Federal Register on September 12, 2011, correct the last sentence in 5-1(c) on page 56238 to read:

Agencies shall also refer to the requirements in FAR Part 35 regarding requirements pertaining to the conduct of FFRDCs.

Lesley A. Field,
Acting Administrator, Office of Federal Procurement Policy.

[FR Doc. 2012-3190 Filed 2-10-12; 8:45 am]

BILLING CODE P